DEPARTMENT OF TRANSPORTATION

Federal Aviation Administration

Aging Transport Systems Rulemaking Advisory Committee Meeting

AGENCY: Federal Aviation Administration (FAA), DOT

ACTION: Notice of public meeting

SUMMARY: This notice announces a public meeting of the FAA's Aging Transport Systems Rulemaking Advisory Committee (ATSRAC).

DATES: The FAA will hold the meeting on April 24 and 25, 2002, from 9 a.m. to 4 p.m. on the first day and from 8 a.m. to 3:30 p.m. on the second day.

ADDRESSES: Honeywell, 1944 E. Sky Harbor Circle, Phoenix, Arizona 85034.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee, which will be held at Honeywell, 1944 E. Sky Harbor Circle, Phoenix, Arizona 85034.

The agenda topics for the meeting will include the following:

• Update on the Enhanced Airworthiness Programs for Airplane Systems (EAPAS) Plan

• Status of FAA's Research and Development Program on Aging Systems

• Review of the Intrusive Inspection Recommendations

• Discussion of Draft Reports from the Wire System Certification Requirements and Standard Wire Practice Manual Harmonization Working Groups

• Discussion of Draft Report and Advisory Circular 120-xx from the Enhanced Maintenance Criteria for Systems Harmonization Working Group

• Status of the Enhanced Training Program for Wire Systems Harmonization Working Group's Tasks

Meeting attendance is open to the public. However, space will be limited by the size of the available meeting room. The FAA will provide teleconference services to individuals who wish to participate by telephone and who submit their requests before April 16th. If you use the teleconference service from within the Washington, DC metropolitan calling area, the call would be considered local. However, callers from outside this calling area will be responsible for paying long-distance charges. In addition to teleconferencing services, we will provide sign and oral interpretation, as well as a listening device if requests are made within 7 calendar days before the meeting. You may arrange for these services by contacting the person listed under the FOR FURTHER INFORMATION CONTACT heading of this notice.

The public may present written statements to the Committee by providing 20 copies to the Committee's Executive Director or by bringing the copies to the meeting. Public statements will only be considered if time permits.

Issued in Washington, DC, on March 29, 2002.
Anthony F. Fazio,
Director, Office of Rulemaking.

[FR Doc. 02-8785 Filed 4-9-02; 9:30 am]

BILLING CODE 4910-13-M